DEPARTMENT OF HEALTH AND HUMAN SERVICES

National Institutes of Health

National Institute of Neurological Disorders and Stroke; Notice of Meeting

Pursuant to section 10(a) of the Federal Advisory Committee Act, as amended (5 U.S.C. Appendix 2), notice is hereby given of a meeting of the Muscular Dystrophy Coordinating Committee (MDCC).

The meeting will be open to the public, with attendance limited to space available. Individuals who plan to attend and need special assistance, such as sign language interpretation or other reasonable accommodations, should inform the Contact Person listed below in advance of the meeting.

Name of Committee: Muscular Dystrophy Coordinating Committee.

Date: June 23, 2008.

Time: 8 a.m. to 5 p.m.

Agenda: The 2008 meeting of the MDCC will focus on the themes of therapy development and living with muscular dystrophy. MDCC members will review their activities related to the goals of the Action Plan for the Muscular Dystrophies which can be found on the MDCC website listed below. Other activities planned for the meeting include a presentation on opportunities for therapy development in myotonic dystrophy, a discussion of muscular dystrophy workforce needs, and a discussion of recent successful collaborations and new opportunities for partnering among the muscular dystrophy community, including the Fields Center for FSHD and Neuromuscular Disease and the Translational Research in Europe—Assessment and Treatment of Neuromuscular Disease (TREAT-NMD) network. An agenda will be posted prior to the meeting on the MDCC Web site: http://www.ninds.nih.gov/find_people/groups/mdcc/index.htm.

Place: Washington Plaza Hotel, 10 Thomas Circle, NW., Washington, DC 20005.

Contact Person: John D. Porter, PhD, Executive Secretary, Muscular Dystrophy Coordinating Committee, National Institute of Neurological Disorders and Stroke, NIH, 6001 Executive Boulevard, NSC 2172, Bethesda, MD 20892, (301) 496-5739, porterjo@ninds.nih.gov.

Any interested person may file written comments with the committee by forwarding their statement to the Contact Person listed on this notice. The statement should include the name, address, telephone number and when applicable, the business or professional affiliation of the interested person.

(Catalogue of Federal Domestic Assistance Program Nos. 93.853, Clinical Research Related to Neurological Disorders; 93.854, Biological Basis Research in the Neurosciences, National Institutes of Health, HHS)

Dated: April 16, 2008.
Jennifer Spaeth,
Director, Office of Federal Advisory Committee Policy.

[FR Doc. E8-9012 Filed 4-24-08; 8:45 am]

BILLING CODE 4140-01-P